DEPARTMENT OF THE INTERIOR

National Park Service

[NPS-WASO-NAGPRA-NPS0040032; PPWOCRADN0-PCU00RP14.R50000]

Notice of Inventory Completion: University of Tennessee, Department of Anthropology, Knoxville, TN, and Kansas State Historical Society, Topeka, KS

AGENCY: National Park Service, Interior.

ACTION: Notice.

SUMMARY: In accordance with the Native American Graves Protection and Repatriation Act (NAGPRA), the University of Tennessee, Department of Anthropology (UTK) and the Kansas State Historical Society (KSHS) have completed an inventory of human remains and associated funerary objects and have determined that there is a cultural affiliation between the human remains and associated funerary objects and Indian Tribes or Native Hawaiian organizations in this notice.

DATES: Repatriation of the human remains and associated funerary objects in this notice may occur on or after May 30, 2025.

ADDRESSES: Dr. Ellen Lofaro, University of Tennessee, 5723 Middlebrook Pike, Knoxville, TN 37921, telephone (865) 974-3370, email nagpra@utk.edu and Dr. Nicole Klarmann, Kansas State Historical Society, 6425 SW 6th Avenue, Topeka, KS 66615, telephone (785) 272-8681, email nikki.klarmann@ks.gov.

SUPPLEMENTARY INFORMATION: This notice is published as part of the National Park Service's administrative responsibilities under NAGPRA. The determinations in this notice are the sole responsibility of UTK and KSHS, and additional information on the determinations in this notice, including the results of consultation, can be found in its inventory or related records. The National Park Service is not responsible for the determinations in this notice.

Abstract of Information Available

Human remains representing, at least, two individuals have been identified. These individuals were removed from the Kansas Monument site, 14RP1, in Republic County, KS at an unknown date by an unknown individual. The first known excavations of the 14RP1 site occurred in 1926 and many additional excavations occurred after this date. The 14RP1 site is a known Pawnee village site occupied by the Kitkahahki Band. The 14RP1 site dates to circa 1770-1830 CE with possible earlier occupations. Based on a past pattern of practice, it is likely that William Bass brought these human remains with him from the University of Kansas when he began working at UTK in 1971.

The 22 associated funerary objects are pieces of sandstone and chert. In March of 2024, loaned collections from site 14RP1 were returned to KSHS by an emeritus professor from the University of Kansas. A small bag of lithics from the `burial and burial area' was included (UBS 2024-02). A graduate student had analyzed these items for a thesis but failed to notify the professor of their context and location after analysis. They were later found and returned to KSHS to be included with other 14RP1 items. Human remains from this site have already been repatriated by KSHS. To our knowledge, no potentially hazardous substances have been used to treat any of the associated funerary objects.

Cultural Affiliation

Based on the information available and the results of consultation, cultural affiliation is clearly identified by the information available about the human remains and associated funerary objects described in this notice. Cultural affiliation between the human remains and Indian Tribes listed in this notice was established via archaeological, geographical, and historical information, oral tradition, and Native American Traditional knowledge/Expert Opinion. Republic County, KS is part of the aboriginal lands of Kaw Nation, Oklahoma and Pawnee Nation of Oklahoma.

Determinations

UTK and KSHS have determined that:

• The human remains described in this notice represent the physical remains of two individuals of Native American ancestry.

• The 22 objects described in this notice are reasonably believed to have been placed intentionally with or near individual human remains at the time of death or later as part of the death rite or ceremony.

• There is a connection between the human remains and associated funerary objects described in this notice and the Kaw Nation, Oklahoma and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 30, 2025. If competing requests for repatriation are received, the UTK and KSHS must determine the most appropriate requestor prior to repatriation. Requests for joint repatriation of the human remains and associated funerary objects are considered a single request and not competing requests. The UTK and KSHS are responsible for sending a copy of this notice to the Indian Tribes and Native Hawaiian organizations identified in this notice.

Authority: Native American Graves Protection and Repatriation Act, 25 U.S.C. 3003, and the implementing regulations, 43 CFR 10.10.

Dated: April 15, 2025.
Melanie O'Brien,
Manager, National NAGPRA Program.

[FR Doc. 2025-07438 Filed 4-29-25; 8:45 am]

BILLING CODE 4312-52-P